ENVIRONMENTAL PROTECTION AGENCY

[FRL-9777-9]

Public Water System Supervision Program Revision for the State of Texas

AGENCY: United States Environmental Protection Agency (EPA).

ACTION: Notice of tentative approval.

SUMMARY: Notice is hereby given that the State of Texas is revising its approved Public Water System Supervision Program. Texas has adopted three EPA drinking water rules, namely the: (1) Long Term 2 Enhanced Surface Water Treatment Rule (LT2), (2) the Stage 2 Disinfectants and Disinfection Byproducts Rule (DBP2), and (3) the Public Notification Rule minor revisions (PN/MR). EPA has determined that the proposed LT2, DBP2, and the PN/MRs submitted by Texas are no less stringent than the corresponding federal regulations. Therefore, EPA intends to approve this program revision.

DATES: All interested parties may request a public hearing. A request for a public hearing must be submitted by March 11, 2013 to the Regional Administrator at the EPA Region 6 address shown below. Frivolous or insubstantial requests for a hearing may be denied by the Regional Administrator. However, if a substantial request for a public hearing is made by March 11, 2013, a public hearing will be held. If no timely and appropriate request for a hearing is received and the Regional Administrator does not elect to hold a hearing on his own motion, this determination shall become final and effective on March 11, 2013. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection between the hours of 8:00 a.m. and 4:30 p.m., Monday through Friday, at the following offices: Texas Commission on Environmental Quality, Water Supply Division, Public Drinking Water Section (MC-155), Building F, 12100 Park 35 Circle, Austin, TX 78753; and United States Environmental Protection Agency, Region 6, Drinking Water Section (6WQ-SD), 1445 Ross Avenue, Suite 1200, Dallas, Texas 75202.

FOR FURTHER INFORMATION CONTACT: Damon McElroy, EPA Region 6, Drinking Water Section at the Dallas address given above, or by telephone at (214) 665-7159, or by email at mcelroy.damon@epa.gov.

Authority: Section 1413 of the Safe Drinking Water Act, as amended (1996), and 40 CFR part 142 of the National Primary Drinking Water Regulations.

Dated: January 28, 2013.
Ron Curry,
Regional Administrator.

[FR Doc. 2013-02804 Filed 2-6-13; 8:45 am]

BILLING CODE 6560-50-P